DEPARTMENT OF LABOR

Employment and Training Administration

[TA-W-50,775]

Harman Wisconsin, Inc., Prairie Du Chien, WI; Notice of Termination of Investigation

Pursuant to Section 221 of the Trade Act of 1974, as amended, an investigation was initiated on February 4, 2003 in response to a worker petition filed by a company official on behalf of workers at Harman Wisconsin, Inc., Prairie du Chien, Wisconsin.

The petitioner has requested that the petition be withdrawn. Consequently, the investigation has been terminated.

Signed at Washington, DC, this 26th day of February 2003.
Richard Church,
Certifying Officer, Division of Trade Adjustment Assistance.

[FR Doc. 03-5418 Filed 3-6-03; 8:45 am]

BILLING CODE 4510-30-P